DEPARTMENT OF THE TREASURY

Agency Information Collection Activities; Submission for OMB Review; Comment Request; Quarterly Federal Excise Tax Return

AGENCY: Departmental Offices, U.S. Department of the Treasury.

ACTION: Notice of information collection; request for comment.

SUMMARY: The Department of the Treasury will submit the following information collection request to the Office of Management and Budget (OMB) for review and clearance in accordance with the Paperwork Reduction Act of 1995, on or after the date of publication of this notice. The public is invited to submit comments on this request.

DATES: Comments should be received on or before March 2, 2026 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Internal Revenue Service (IRS)

1. Title: Quarterly Federal Excise Tax Return.

OMB Control Number: 1545-0023.

Type of Request: Revision of a currently approved collection.

Description: Excise taxes are taxes paid when purchases are made on a specific good, such as gasoline. 26 U.S.C. 4081 imposes tax for miscellaneous excise taxes, manufacturers excise taxes, automotive and related items, petroleum products and motor and aviation fuel. Form 720, Quarterly Federal Excise Tax Return, is used to report liability by IRS number and to pay the excise taxes listed on the form. Form 720-X is used to make adjustments to liability reported on Form 720 filed in previous quarters. Form 6627 is used to figure the environmental tax on petroleum, ODCs, imported products that used ODCs as materials in the manufacture or production of the product, and the floor stocks tax on ODCs. Form 6627 is filed with Form 720.

Forms: 720, 720-X, and 6627.

Affected Public: Business and other for-profit organizations.

Estimated Number of Respondents: 206,700.

Frequency of Response: On Occasion.

Estimated Total Number of Annual Responses: 206,700.

Estimated Time per Response: Varies from 6 hours, 54 minutes to 16 hours, 10 minutes.

Estimated Total Annual Burden Hours: 3,105,408.

(Authority: 44 U.S.C. 3501 et seq.)

Spencer W. Clark,
Treasury PRA Clearance Officer.

[FR Doc. 2026-01820 Filed 1-29-26; 8:45 am]

BILLING CODE 4810-25-P